DEPARTMENT OF LABOR

Employment and Training Administration

[TA-W-55,407]

Delta Energy Systems, Inc. Formerly Known as Ascom Energy Systems, Inc. Including Leased Workers of Randstad North America And Accountemps, Palm Coast, FL; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on August 17, 2004, applicable to workers of Delta Energy Systems, Inc., including leased workers of Randstad North America, Palm Coast, Florida. The notice was published in the Federal Register on September 8, 2004 (69 FR 54321). The certification was amended on September 30, 2004, to include workers of the subject firm operating in various other states. The notice was published in the Federal Register on October 12, 2004 (69 FR 60668).

At the request of the State agency, the Department reviewed the certification for workers of the subject firm. The workers are engaged in the production of power conversion products.

New information shows that leased workers of Accountemps were employed at Delta Energy Systems, Inc., formerly known as Ascom Energy Systems, Inc., at the Palm Coast, Florida location of the subject firm.

Based on these findings, the Department is amending this certification to include leased workers of Accountemps working at Delta Energy Systems, Inc., formerly known as Ascom, Palm Coast, Florida.

The intent of the Department's certification is to include all workers of Delta Energy Systems, Inc., formerly known as Ascom Energy Systems, Inc. who was adversely affected by increased imports.

The amended notice applicable to TA-W-55,407 is hereby issued as follows:

All workers of Delta Energy Systems, Inc., formerly known as Ascom Energy Systems, Inc., including on-site leased workers of Randstad North America and Accountemps, Palm Coast, Florida, who became totally or partially separated from employment on or after July 14, 2003, through August 17, 2006, are eligible to apply for adjustment assistance under Section 223 of the Trade Act of 1974, and are also eligible to apply for alternative trade adjustment assistance under section 246 of the Trade Act of 1094.

Signed in Washington, DC this 18th day of November 2004.
Richard Church,
Certifying Officer, Division of Trade Adjustment Assistance.

[FR Doc. E4-3519 Filed 12-6-04; 8:45 am]

BILLING CODE 4510-30-P